DEPARTMENT OF LABOR

Employment and Training Administration

[TA-W-55,767]

Lenox, Inc., Oxford, NC; Notice of Revised Determination on Reconsideration

By letter dated December 9, 2004, a company official requested administrative reconsideration regarding the Department's Negative Determination Regarding Eligibility to Apply for Worker Adjustment Assistance applicable to the workers of the subject firm.

The initial investigation resulted in a negative determination issued on November 9, 2004, based on the finding that petitioning workers did not produce an article within the relevant time period. The denial notice was published in the Federal Register on December 9, 2004 (69 FR 71428).

To support the request for reconsideration, the company official supplied additional information. Upon further review, it was revealed that the petitioning workers were members of the workforce that was certified eligible for TAA benefits, whose certification expired on October 11, 2004. The investigation revealed that petitioning workers remained employed at the subject facility after the stoppage of the production and beyond the date of the TAA certification for the purpose of completion of the transfer of the inventory and removal of the remaining equipment from the subject facility.

Conclusion

After careful review of the additional facts obtained on reconsideration, I conclude that increased imports of articles like or directly competitive with those produced at Lenox, Inc., Oxford, North Carolina, contributed importantly to the declines in sales or production and to the total or partial separation of workers at the subject firm. In accordance with the provisions of the Act, I make the following certification:

All workers of Lenox, Inc., Oxford, North Carolina who became totally or partially separated from employment on or after October 11, 2004 through two years from the date of this certification, are eligible to apply for adjustment assistance under Section 223 of the Trade Act of 1974.

Signed in Washington, DC this 18th day of January 2005.
Elliott S. Kushner,
Certifying Officer, Division of Trade Adjustment Assistance.

[FR Doc. E5-460 Filed 2-4-05; 8:45 am]

BILLING CODE 4510-30-P